ENVIRONMENTAL PROTECTION AGENCY

[EPA-HQ-OPP-2004-0340; FRL-8350-1]

Disulfoton; Amendment to and Clarification of Order to Amend Registration to Terminate Uses

AGENCY: Environmental Protection Agency (EPA).

ACTION: Notice.

SUMMARY: This notice announces EPA's amendment to and clarification of the order for the termination of uses, voluntarily requested by the registrant and accepted by the Agency, of products containing the pesticide disulfoton, pursuant to section 6(f)(1) of the Federal Insecticide, Fungicide, and Rodenticide Act (FIFRA), as amended. This amendment and clarification follows an October 10, 2007 Federal Register Notice of Order to Amend Registrations to Terminate Uses (72 FR 57571) of disulfoton (Di-Syston 15G) for multiple uses. The October 10, 2007 order and the December 15, 2004, Notice of Receipt of Request (69 FR 75061) that preceded the order were unclear as to whether the use of Di-Syston 15G on Fraser fir Christmas trees was terminated, except for use in the State of North Carolina. In addition, the registrant had withdrawn its request to terminate use of Di-Syston 15G on Christmas trees outside of North Carolina during the time allowed and EPA issued the order without having processed that withdrawal. Accordingly, EPA hereby is amending the order to clarify that use of disulfoton on Fraser fir Christmas trees is allowed nationwide.

DATES: This amendment is effective February 6, 2008.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2004-0340. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the amendment and clarification of the October 10, 2007 order to amend registrations to terminate uses of certain end-use disulfoton products registered under section 3 of FIFRA. The registration number is listed in Table 1 of this unit.

Table 1.—Disulfoton Product Affected
EPA Registration Number | Product Name
264-723 | Di-Syston 15G

Table 2 of this unit includes the name and address of record for the registrant of the product in Table 1 of this unit.

Table 2.—Registrant of Amended Disulfoton Product
EPA Company Number | Company Name and Address
264 | Bayer CropSciences, 2 T.W. Alexander Drive, Research Triangle Park, NC 27709

On December 15, 2004, EPA published a Notice of Receipt of Request to Voluntarily Terminate Certain Uses (69 FR 75061). That notice contained the statement: “The registrant will retain use of Di-Syston 15G on Fraser fir Christmas trees in North Carolina...” On January 21, 2005, during the allowed timeframe set out in the December 15, 2004 notice, EPA received a withdrawal request from the registrant that replaced an exclusion from termination for Christmas trees in North Carolina with an exclusion from termination for Christmas trees nationwide. EPA did not make note of this withdrawal in its October 10, 2007 order and instead reiterated the statement “The registrant will retain use of Di-Syston 15G on Fraser fir Christmas trees in North Carolina” without mention of how Christmas trees outside of North Carolina would be affected. Today's action is intended to clarify that no use of Di-Syston 15G on Fraser fir Christmas trees has been terminated.

III. Amended Order

Pursuant to FIFRA section 6(f), EPA hereby amends the October 10, 2007 order to clarify that EPA did not terminate use on Fraser fir Christmas trees outside of North Carolina of disulfoton registrations identified in Table 1 of Unit II. Accordingly, the Agency hereby orders that the use of disulfoton products whose registration is identified in Table I of Unit II for use on Fraser fir Christmas trees is allowed nationwide.

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

List of Subjects

Environmental protection, Pesticides and pests.

Dated: January 24, 2008.
Steven Bradbury,
Director, Special Review and Reregistration Division, Office of Pesticide Programs.

[FR Doc. E8-2174 Filed 2-5-08; 8:45 am]

BILLING CODE 6560-50-S